DEPARTMENT OF EDUCATION

Applications for New Awards; School Climate Transformation Grant Program—Local Educational Agency Grants

AGENCY: Office of Elementary and Secondary Education, Department of Education.

ACTION: Notice.

Overview Information:

School Climate Transformation Grant Program—Local Educational Agency Grants.

Notice inviting applications for new awards for fiscal year (FY) 2014.

Catalog of Federal Domestic Assistance (CFDA) Number: 84.184G.

Dates:

Applications Available: May 7, 2014.

Deadline for Transmittal of Applications: June 23, 2014.

Deadline for Intergovernmental Review: August 20, 2014.

Full Text of Announcement

I. Funding Opportunity Description

Purpose of Program: The School Climate Transformation Grant Program—Local Educational Agency Grants provides competitive grants to local educational agencies (LEAs) to develop, enhance, or expand systems of support for, and technical assistance to, schools implementing an evidence-based multi-tiered behavioral framework for improving behavioral outcomes and learning conditions for all students.

Background:

Although schools have long attempted to address issues of discipline, disruptive and problem behavior, violence, and bullying, the vast majority of our Nation's schools have not implemented comprehensive, effective supports that address the full range of students' social, emotional, and behavioral needs.¹

¹ Horner, R., Sugai, G., and Vincent, C. (2005). School-wide Positive Behavior Support: Investing in student success. Impact: Feature Issue on Fostering Success in School and Beyond for Students with Emotional/Behavioral Disorders. Retrieved from: http://ici.umn.edu.

A report issued by the U.S. Secret Service and the Department of Education following the Columbine shooting found that one of the most effective ways schools can reduce violence and bullying is to improve a school's climate and thereby increase trust and communication between students and staff.² Research demonstrates that the implementation of an evidence-based, multi-tiered behavioral framework, such as positive behavioral interventions and supports (PBIS), can help improve overall school climate and safety.³ A key aspect of this multi-tiered approach is providing differing levels of support and interventions to students based on their needs. Certain supports involve the whole school (e.g., consistent rules, consequences, and reinforcement of appropriate behavior), with more intensive supports for groups of students exhibiting at-risk behavior and individualized services for students who continue to exhibit troubling behavior.

² Borum, R., Fein, R., Modzeleski, W., Pollack, W., Reddy, M., Vossekuil, B., Threat Assessment in Schools: A Guide to Managing Threatening Situations and Creating Safe School Climates, 2002.

³ Bradshaw, C., Koth, C.W., Thornton, L.A., & Leaf, P.J. (2009). Altering school climate through school-wide Positive Behavioral Interventions and Supports: Findings from a group-randomized effectiveness trial. Prevention Science.

When a multi-tiered behavioral framework has been implemented with fidelity, studies have found the following statistically significant results: An increase in perceived school safety, reductions in overall problem behaviors, reductions in bullying behaviors,⁴ and reductions in office discipline referrals and suspensions.⁵ Studies have also found a correlation between the use of multi-tiered behavioral frameworks and improved social skills.⁶ Emerging evidence also links implementing a multi-tiered behavioral framework with improved academic achievement.⁷ In addition to being effective, school-wide multi-tiered behavioral frameworks are attractive because they are designed to enhance the learning environment for all students while having additional supports in place for students who have greater social, emotional, and behavioral needs.

⁴ Bradshaw, C., Goldweber, A., Leaf, P., Pasa, E., Rosenberg, M. (2012). Integrating school-wide Positive Behavioral Interventions and Supports with tier 2 coaching to student support teams: The PBISplus model. Advances in School Mental Health Promotion.

⁵ Bradshaw, C., Leaf, P., Mitchell, M. (2009). Examining the effects of schoolwide Positive Behavioral Interventions and Supports on student outcomes: Results from a randomized controlled effectiveness trial in elementary schools. Journal of Positive Behavior Interventions.

⁶ Barrett, S.B., Bradshaw, C.P. & Lewis-Palmer, T. (2008). Maryland statewide PBIS initiative: Systems, evaluation, and next steps. Journal of Positive Behavior Interventions.

⁷ McIntosh, K., Bennett, J.L., & Price, K. (2011). Evaluation of social and academic effects of school-wide positive behaviour support in a Canadian school district. Exceptionality Education International.

Under this program, grant funds will help LEAs develop and adopt, or expand to more schools, a multi-tiered behavioral framework that guides the selection, integration, and implementation of the best evidence-based behavioral practices for improving school climate and behavioral outcomes for all students.

In 2013, the President proposed a comprehensive plan, “Now is the Time,” to protect our children and communities by reducing gun violence, making schools safer, and increasing access to mental health services.⁸ The School Climate Transformation Grant Program is one of several Federal programs designed to work together to help make schools safer and improve mental health services for students and young adults. The Departments of Education, Health and Human Services, and Justice are implementing coordinated programs consistent with the initiative and the FY 2014 Consolidated Appropriations Act. The Department of Health and Human Services (HHS) Substance Abuse and Mental Health Services Administration (SAMHSA) is implementing the Administration's “Now is the Time” Project AWARE (Advancing Wellness and Resilience in Education), which provides grants to LEAs and SEAs to increase awareness of mental health issues among school-aged youth. Project AWARE grants provide funding to support training in detection and response to mental illness in youth for adults who interact with youth in school and community settings. The Department of Justice, under the School Justice Collaboration Program: Keeping Kids in School and Out of Court, will also be awarding competitive grants to juvenile and family courts in communities that receive School Climate Transformation Grants to facilitate collaboration around the use of evidence-based positive behavior strategies to increase school safety and reduce suspensions, expulsions and referrals to court. The Department of Education is implementing SEA and LEA School Climate Transformation Grants to allow States and LEAs to develop, enhance, or expand systems of support for, and technical assistance to, schools implementing evidence-based multi-tiered behavior frameworks for improving behavioral outcomes and learning conditions for all students.

⁸ See the President's “Now is the Time” Plan at: http://www.whitehouse.gov/sites/default/files/docs/wh_now_is_the_time_full.pdf.

LEAs that implement this suite of programs as part of a coordinated strategy will enhance their ability to achieve the goals and objectives of the various programs. The combination and coordination of these programs will facilitate interagency partnerships and strategies to address the issues of school climate, school safety, and mental health needs in a comprehensive manner.

This notice invites LEAs to apply for grants under the School Climate Transformation Grant Program. A notice inviting applications from SEAs is published elsewhere in this issue of the Federal Register.

Priorities: This notice contains one absolute priority and two competitive preference priorities. We are establishing the absolute priority and competitive preference priority 1 for the FY 2014 grant competition, and any subsequent year in which we make awards from the list of unfunded applicants from this competition, in accordance with section 437(d)(1) of the General Education Provisions Act (GEPA), 20 U.S.C. 1232(d)(1). Competitive preference priority 2 is from the notice of final priority for Promise Zones that was published in the Federal Register on March 27, 2014 (79 FR 17035).

Absolute Priority: For FY 2014 and any subsequent year in which we make awards from the list of unfunded applicants from this competition, this priority is an absolute priority. Under 34 CFR 75.105(c)(3) we consider only applications that meet this priority.

This priority is:

Grants to Local Educational Agencies (LEAs) to Implement Multi-Tiered Behavioral Frameworks to Improve School Climate.

Under this priority, we provide grants to LEAs to develop, enhance, or expand systems of support for, and provide technical assistance to, schools within the LEA implementing a multi-tiered behavioral framework to improve school climate and behavioral outcomes for all students.

Competitive Preference Priorities: For FY 2014 and any subsequent year in which we make awards from the list of unfunded applicants from this competition, these priorities are competitive preference priorities. Under 34 CFR 75.105(c)(2)(1) we award up to an additional 5 points to an application, depending on how well the applicant meets competitive preference priority 1, and an additional 5 points to an application that meets competitive preference priority 2. Therefore, the maximum number of competitive preference points that an application can receive under this competition is 10 points.

Note: Applicants may address either of the competitive preference priorities or both. An applicant must clearly identify in the abstract section of its application the competitive preference priority or priorities it wishes the Department to consider. The Department will not review or award points under any competitive preference priority for any application that fails to do so.

These priorities are:

Competitive Preference Priority 1—Coordination with Other Related Activities (0-5 points).

Under this priority, we provide additional points to an applicant based on the application's description of a credible, high-quality plan to coordinate activities that would be funded under this competition with related activities that are funded through other available resources in such a manner as to enhance the overall impact of the multi-tiered behavioral frameworks implemented through a School Climate Transformation grant. The coordination may be with related activities that are currently in progress, such as the SAMHSA's Safe and Healthy Students program (CFDA 93.243) and HHS's Health Resources Services Administration's Center for School Mental Health (Project U45 MC 00174); as well as with related activities that would be conducted under other programs for which the applicant is currently seeking funding, such as the Mental Health First Aid program being funded by SAMHSA under the Project AWARE Local Educational Agency Grants and the School Justice Collaboration Program: Keeping Kids in School and Out of Court being funded by the Department of Justice.

The plan must also describe how, in the event and to the extent an applicant does not receive the funding that it seeks from other sources to support such related activities, the applicant will adjust its proposed coordination strategies. Applicants that receive additional competitive preference points under this priority and who are ultimately awarded a School Climate Transformation grant must finalize the high-quality plan described in response to this priority post-award.

Competitive Preference Priority 2—Promise Zones (5 points).

Projects that are designed to serve and coordinate with a federally designated Promise Zone.

Note: Applicants should submit a letter from the lead entity of a designated Promise Zone attesting to the contribution that the proposed activities would make, and supporting the application. A list of designated Promise Zones and lead organizations can be found at www.hud.gov/promisezones.

Program Requirements

Each grantee must implement a plan that:

(a) Builds capacity for implementing a sustained, school-wide multi-tiered behavioral framework by:

(1) Improving the skills of school personnel to organize the components of a multi-tiered behavioral framework, such as discipline policies, funding, professional development, coaching, and interagency coordination for providing services;

(2) Developing a cadre of trained and experienced staff to provide training and ongoing coaching to school leadership teams on the multi-tiered behavioral framework; and

(3) Improving the quality, accessibility, and usefulness of individual school and LEA data collection and analysis.

(b) Enhances capacity by providing training and technical assistance to schools on:

(1) Developing or improving the quality, accessibility, and usefulness of data collection, using applications such as the School Wide Information System (SWIS) or similar information systems and data-based decision making;

(2) Improving the skills and expertise of school personnel to develop, implement, and sustain a multi-tiered behavioral framework;

(3) Using evidence-based practices and reliable and valid tools and processes for evaluating the fidelity of implementation of the multi-tiered behavioral framework, as well as for measuring its outcomes, including reductions in discipline referrals, suspensions, expulsions, and the use of restraints and seclusion; improvements in school climate; increases in instructional time; and improvement in overall academic achievement;

(4) Developing and implementing a process to review and update student codes of conduct, based in part on both internal and community input, to support the implementation of a multi-tiered behavioral framework; and

(5) Coordinating school efforts with appropriate Federal, State and local resources.

(c) Includes an assurance that the applicant will work with a technical assistance provider, such as the PBIS Technical Assistance Center funded by the Department, to ensure that technical assistance related to implementing program activities is provided.

(d) Includes an LEA-wide assessment to determine whether there has been any disproportionate discipline of minority students or students with disabilities.

(e) Provides for the development (during the grant period) of a detailed plan that will promote fair and effective disciplinary practices, based on data from the LEA-wide assessment.

Application Requirements

Applicants must meet the following requirements. Applications that fail to meet any of these requirements will not be read or scored.

The applicant must:

(a) Describe the current LEA efforts to implement, as well as existing need to implement, scale-up, and sustain a multi-tiered behavioral framework. The applicant must also present data demonstrating this need, including, but not limited to, the number of schools in the LEA that are currently implementing a multi-tiered behavioral framework and want to scale-up or sustain it and the number of schools in the LEA that are interested in implementing a multi-tiered behavioral framework;

(b) Describe its plan to develop, improve, or enhance the capacity of the LEA and individual schools to provide effective training, technical assistance, and support to schools and staff on implementing a multi-tiered behavioral framework, including how the applicant will assess an individual school's readiness to implement or enhance a multi-tiered behavioral framework.

(c) Describe how the proposed project will address the needs of high-need schools. High-need schools may include high-poverty schools (as defined in this notice), low-performing schools (as defined in this notice), persistently lowest-achieving schools (as defined in this notice), and priority schools (as defined in this notice).

(d) Explain how its efforts to implement, expand, and sustain a multi-tiered behavioral framework will be linked to other school safety, school improvement, and school reform efforts.

Definitions. We are establishing the definitions of “low-performing school,” “multi-tiered behavioral framework,” and “priority school” in this notice for the FY 2014 grant competition and any subsequent year in which we make awards from the list of unfunded applications from this competition, in accordance with section 437(d)(1) of GEPA, 20 U.S.C. 1232(d)(1). The definitions of “high-poverty school” and “persistently lowest-achieving schools” are from the notice of final supplemental priorities and definitions for discretionary grant programs published in the Federal Register on December 15, 2010 (75 FR 78486) and corrected on May 12, 2011 (76 FR 27637). The definitions of “ambitious” and “baseline data” are from 34 CFR 77.1.

Ambitious means promoting continued, meaningful improvement for program participants or for other individuals or entities affected by the grant, or representing a significant advancement in the field of education research, practices, or methodologies. When used to describe a performance target, whether a performance target is ambitious depends upon the context of the relevant performance measure and the baseline for that measure.

Baseline data means the starting point from which performance is measured and targets are set.

High-poverty school means a school in which at least 50 percent of students are eligible for free or reduced-price lunches under the Richard B. Russell National School Lunch Act or in which at least 50 percent of students are from low-income families as determined using one of the criteria specified under section 1113(a)(5) of the ESEA. For middle and high schools, eligibility may be calculated on the basis of comparable data from feeder schools. Eligibility as a high-poverty school under this definition is determined on the basis of the most currently available data.

Low-performing school means a school that is in the bottom 10 percent of performance in the State, or that has significant achievement gaps, based on student academic performance in reading/language arts and mathematics on the assessments required under the ESEA, or graduation rate gaps.

Multi-tiered behavioral framework means a school-wide structure used to improve the integration and implementation of behavioral practices, data-driven decision-making systems, professional development opportunities, school leadership, supportive SEA and LEA policies, and evidence-based instructional strategies.

Persistently lowest-achieving schools means, as determined by the State—

(a)(1) Any Title I school in improvement, corrective action, or restructuring that—

(i) Is among the lowest-achieving five percent of Title I schools in improvement, corrective action, or restructuring or the lowest-achieving five Title I schools in improvement, corrective action, or restructuring in the State, whichever number of schools is greater; or

(ii) Is a high school that has had a graduation rate as defined in 34 CFR 200.19(b) that is less than 60 percent over a number of years; and

(2) Any secondary school that is eligible for, but does not receive, Title I funds that—

(i) Is among the lowest-achieving five percent of secondary schools or the lowest-achieving five secondary schools in the State that are eligible for, but do not receive, Title I funds, whichever number of schools is greater; or

(ii) Is a high school that has had a graduation rate as defined in 34 CFR 200.19(b) that is less than 60 percent over a number of years.

(b) To identify the lowest-achieving schools, a State must take into account both—

(i) The academic achievement of the “all students” group in a school in terms of proficiency on the State's assessments under section 1111(b)(3) of the ESEA in reading/language arts and mathematics combined; and

(ii) The school's lack of progress on those assessments over a number of years in the “all students” group.

Note: The Department considers schools that are identified as Tier I or Tier II schools under the School Improvement Grants Program (see 75 FR 66363) as part of a State's approved FY 2009, FY 2010, FY 2011, FY 2012, or FY 2013 application to be persistently lowest-achieving schools. A list of these Tier I and Tier II schools can be found on the Department's Web site at www2.ed.gov/programs/sif/index.html.

Priority school means a school that has been identified by the State as a priority school pursuant to the State's approved request for ESEA flexibility.

Waiver of Proposed Rulemaking: Under the Administrative Procedure Act (5 U.S.C. 553), the Department generally offers interested parties the opportunity to comment on proposed priorities, definitions, and requirements. Section 437(d)(1) of GEPA, however, allows the Secretary to exempt from rulemaking requirements, regulations governing the first grant competition under a new or substantially revised program authority. This is the first grant competition for this program under the appropriation for Safe Schools and Citizenship Education in the Department of Education Appropriations Act, 2014, Title III of Division H of Public Law 113-76, and section 4121 of the ESEA (20 U.S.C. 7131) and therefore qualifies for this exemption. In order to ensure timely grant awards, the Secretary has decided to forgo public comment on the absolute priority, competitive preference priority 1, the requirements and definitions under section 437(d)(1) of GEPA. These priorities, definitions, and requirements will apply to the FY 2014 grant competition and any subsequent year in which we make awards from the list of unfunded applicants from this competition.

Program Authority: 20 U.S.C. 7131; the Department of Education Appropriations Act, 2014, Title III of Division H of Public Law 113-76.

Applicable Regulations: (a) The Education Department General Administrative Regulations (EDGAR) in 34 CFR parts, 75, 77, 79, 80, 81, 82, 84, 97, 98, and 99; the regulations in 34 CFR part 299. (b) The Education Department suspension and debarment regulations in 2 CFR part 3485. (c) The notice of final priority for Promise Zones that was published in the Federal Register on March 27, 2014 (79 FR 17035).

Note: The regulations in 34 CFR part 79 apply to all applicants except federally recognized Indian tribes.

II. Award Information

Type of Award: Discretionary grants.

Estimated Available Funds: $23,625,000.

Contingent upon the availability of funds and the quality of applications, we may make additional awards in FY 2015 and subsequent years from the list of unfunded applicants from the competition announced in this notice.

Estimated Range of Awards: $100,000 to $750,000 per year for up to 5 years.

Estimated Average Size of Awards: $200,000.

Maximum Award: We will reject any application that proposes a budget exceeding $750,000 for a single budget period of 12 months. The Assistant Secretary for Elementary and Secondary Education may change the maximum amount through a notice published in the Federal Register.

Estimated Number of Awards: 118.

Note: The Department is not bound by any estimates in this notice.

Project Period: Up to 60 months.

III. Eligibility Information

1. Eligible Applicants: LEAs, or consortia of LEAs, as defined by section 9101(26) of the ESEA.

2. Cost Sharing or Matching: This program does not require cost sharing or matching.

3. Participation by Private School Children and Teachers. Section 9501 of the ESEA requires that SEAs, LEAs, or other entities receiving funds under the Safe and Drug-Free Schools and Communities Act provide for the equitable participation of private school children, their teachers, and other educational personnel in private schools located in geographic areas served by the grant recipient.

In order to ensure that grant program activities address the needs of private school children, the applicant must engage in timely and meaningful consultation with appropriate private school officials during the design and development of the proposed program. This consultation must take place before the applicant makes any decision that affects the opportunities of eligible private school children, teachers, and other educational personnel to participate in grant program activities. Administrative direction and control over grant funds must remain with the grantee.

IV. Application and Submission Information

1. Address to Request Application Package: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application package from ED Pubs, be sure to identify this program or competition as follows: CFDA number 84.184G.

Individuals with disabilities can obtain a copy of the application package in an accessible format (e.g., braille, large print, audiotape, or compact disc) by contacting the person or team listed under Accessible Format in section VIII of this notice.

2. Content and Form of Application Submission: Requirements concerning the content of an application, together with the forms you must submit, are in the application package for this program.

Page Limit: The application narrative is where you, the applicant, provide the project narrative to address the selection criteria that reviewers use to evaluate your application. The required budget and budget narrative will be provided in a separate section. You must limit the application narrative to the equivalent of no more than 25 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The page limit does not apply to the cover sheet; the budget section, including the narrative budget justification; the assurances and certifications; or the one-page abstract, the resumes, the bibliography, or the letters of support. However, the page limit does apply to all of the application narrative section.

Our reviewers will not read any pages of your application that exceed the page limit.

3. Submission Dates and Times:

Applications Available: May 7, 2014.

Deadline for Transmittal of Applications: June 23, 2014.

Applications for grants under this program must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: August 20, 2014

4. Intergovernmental Review: This program is subject to Executive Order 12372 and the regulations in 34 CFR part 79. Information about Intergovernmental Review of Federal Programs under Executive Order 12372 is in the application package for this program.

5. Funding Restrictions: Program funds may be used for costs related to training, technical assistance, and capacity building, in addition to other allowable costs. We reference additional regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one-to-two business days.

If you are a corporate entity, agency, institution, or organization, you can obtain a TIN from the Internal Revenue Service. If you are an individual, you can obtain a TIN from the Internal Revenue Service or the Social Security Administration. If you need a new TIN, please allow 2-5 weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov and before you can submit an application through Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: http://www.grants.gov/web/grants/register.html.

7. Other Submission Requirements:

Applications for grants under this competition must be submitted electronically unless you qualify for an exception to this requirement in accordance with the instructions in this section.

a. Electronic Submission of Applications.

Applications for grants under the School Climate Transformation Grant Program—Local Educational Agency Grants, CFDA number 84.184G, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the School Climate Transformation Grant Program—Local Educational Agency Grants at www.Grants.gov. You must search for the downloadable application package for this competition by the CFDA numbers. Do not include the CFDA number's alpha suffix in your search (e.g., search for 84.184, not 84.184G).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at http://www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material. (Additional, detailed information on how to attach files is in the application instructions.)

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Eve Birge, U.S. Department of Education, 400 Maryland Avenue SW., Room 3E248, Washington, DC 20202. FAX: (202) 453-6742.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: CFDA Number 84.184G, LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: CFDA Number 84.184G, 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210 of EDGAR and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures:

(a) Program Performance Measures. The Department has established the following performance measures for assessing the effectiveness of the School Climate Transformation Grant Program—Local Educational Agency Grants:

1. Number and percentage of schools that report an annual decrease in office disciplinary referrals.

2. Number and percentage of schools that report an annual improvement in the attendance rate.

3. Number and percentage of schools that report an annual decrease in suspensions and expulsions, including those related to possession or use of drugs or alcohol.

4. Number and percentage of schools annually that are implementing the multi-tiered behavioral framework with fidelity.

These measures constitute the Department's indicators of success for this program.

(b) Project Performance Measures. The project performance measures are:

1. Number and percentage of schools that report an annual decrease in office disciplinary referrals.

2. Number and percentage of schools that report an annual improvement in the attendance rate.

3. Number and percentage of schools that report an annual decrease in suspensions and expulsions, including those related to possession or use of drugs or alcohol.

4. Number and percentage of schools annually that are implementing the multi-tiered behavioral framework with fidelity.

(c) Baseline data. Applicants must provide baseline data (as defined in this notice) for each of the project performance measures listed in (b) and explain why each proposed baseline is valid; or, if the applicant has determined that there are no established baseline data for a particular performance measure, explain why there is no established baseline and explain how and when, during the project period, the applicant will establish a valid baseline for the performance measure.

(d) Performance measure targets. In addition, the applicant must propose annual targets for the measures listed in paragraph (b) in their application. Applications must also provide the following information as directed CFR 75.110(b) and (c):

(1) Why each proposed performance target is ambitious (as defined in this notice) yet achievable compared to the baseline for the performance measure.

(2)(a) The data collection and reporting methods the applicant would use and why those methods are likely to yield reliable, valid, and meaningful performance data; and (b) the applicant's capacity to collect and report reliable, valid, and meaningful performance data, as evidenced by high-quality data collection, analysis, and reporting in other projects or research.

Note: If the applicant does not have experience with collection and reporting of performance data through other projects or research, the applicant should provide other evidence of capacity to successfully carry out data collection and reporting for its proposed project.

The reviewers of each application will score related selection criteria on the basis of how well an applicant has considered these measures in paragraphs (b), (c), and (d) in conceptualizing the approach and evaluation of the project.

All grantees must submit an annual performance report and final performance report with information that is responsive to these performance measures. The Department will consider this data in making annual continuation awards.

Consistent with 34 CFR 75.591, grantees funded under this program shall comply with the requirements of any evaluation of the program conducted by the Department or an evaluator selected by the Department.

5. Continuation Awards: In making a continuation award, the Secretary may consider, under 34 CFR 75.253, the extent to which a grantee has made “substantial progress toward meeting the objectives in its approved application” and the performance measurement and target requirements in the application notice. This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Eve Birge, U.S. Department of Education, 400 Maryland Avenue SW., Room 3E248, Washington, DC 20202-6450. Telephone: (202) 453-6717 or by email: eve.birge@ed.gov.

VIII. Other Information

Accessible Format: Individuals with disabilities can obtain this document and a copy of the application package in an accessible format (e.g., braille, large print, audiotape, or compact disc) on request to the program contact person listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: May 2, 2014.
Deborah S. Delisle,
Assistant Secretary for Elementary and Secondary Education.

[FR Doc. 2014-10497 Filed 5-6-14; 8:45 am]

BILLING CODE 4000-01-P